DEPARTMENT OF ENERGY

National Energy Technology Laboratory; Notice of Availability of a Financial Assistance Solicitation

AGENCY: National Energy Technology Laboratory, Department of Energy (DOE).

ACTION: Notice of availability of a Financial Assistance Solicitation.

SUMMARY: Notice is hereby given of the intent to issue Financial Assistance Solicitation No. DE-PS26-03NT41716 entitled “Gasification Technologies Fundamental Research.” This solicitation is intended to support near-term fundamental gasification technologies research projects that are: (1) Fundamental in nature, and (2) Important for the commercial success of gasification technologies. It is anticipated that the resultant projects will provide fundamental data useful to many organizations across the industry to help move gasification technologies toward the commercial marketplace. A secondary objective is to increase university involvement with the Gasification Technologies Program to ensure the inclusion of fresh, innovative ideas in the program, and to educate future scientists and engineers in gasification technologies.

DATES: The solicitation will be available on the “Industry Interactive Procurement System” (IIPS) webpage located at http://e-center.doe.gov on or about November 27, 2002. Applicants can obtain access to the solicitation from the address above or through DOE/NETL's Web site at http://www.netl.doe.gov/business.

FOR FURTHER INFORMATION CONTACT: Keith L. Carrington, MS I07, U.S. Department of Energy, National Energy Technology Laboratory, 3610 Collins Ferry Road, P.O. Box 880, Morgantown, WV 26507-0880, E-mail Address: keith.carrington@netl.doe.gov, Telephone Number: (304) 285-4456.

SUPPLEMENTARY INFORMATION: It is anticipated that this action will consist of a single solicitation focused on three specific topic areas. Last year, the Gasification Technologies Product Team held interviews with industry organizations to gain industry's perspective on barriers to the commercial success of gasification technologies. This resulted in a list of specific research and development areas for product team consideration. This solicitation will address some of the near-term fundamental research needs described on this industry-generated list, chosen and modified by the Gasification Technologies Product Team based on additional input from industry and the needs of the DOE Gasification Technologies Program. The following two websites contain background information on gasification technologies: http://www.netl.doe.gov/coalpower/gasification/ & http://www.gasification.org/resource/library/library.html. The program solicitation will focus on the following three topic areas:

1. Develop technologies to remove the barriers preventing the economic use of low ranked (sub-bituminous and lignite) coals. Examples: (a) New/improved approaches for increasing the thermal stability of dewatered lignite. (b) Process/technology to create a higher energy density feed slurry, including understanding the critical properties changed by the process in terms of feed systems.

2. Develop improved materials to increase equipment life or reliability in the gasifier and through the process to the syngas cooler inlet. The net result of the material improvement must have potential to be an economic advantage to the gasification industry. Examples: (a) Improve feed system injector materials to increase the injector life. (b) Increase the life of gasifier refractory, by creating a more robust refractory, through investigation of refractory reactivity with gasifier contaminants and techniques to improve refractory stability, etc. (c) Metal alloys/fabrication that can survive in the gasifier environment long enough to: (1) Assist the development of more robust instrumentation (current average lifetime of thermocouples is 30-45 days), or (2) Permit metal candle filter use at temperatures approaching those in the gasifier (current metal filters have an operation limit of about one year at 450 °C).

3. Develop innovative, less expensive approaches to resolve environmental and/or economic concerns with coal gasification fuel gas contaminants and combustion flue gas pollutants, including the need for ultra clean feed gas for chemical production. Examples: (a) Conduct a mercury balance on the gasification process. (b) Create an added value technology or study for solid or chemical by products such as the concentration of mercury from conventional removal system for sale, creation of a process using high purity sulfur to make a more lucrative product, etc. (c) More effective/less expensive reduction of pollutants and/or trace contaminants in the combustion flue gas. (d) New instrumentation/techniques to measure trace metal concentrations in a high-temperature, high-pressure, reducing environment.

It is anticipated that this program solicitation will result in between three (3) to six (6) awards. The period of performance for each award will range from one to three years with budget periods to be established independently based on the logical technical phases of each individual project. Based on current planning levels, and subject to the availability of future funding, DOE expects to provide up to approximately $3,600,000 to support work under this solicitation. However, please note that due to DOE's current operation under a continuing resolution, funds are not presently available for this solicitation. Given the objective of this program to increase university involvement in the Gasification Technologies Program, a determination was made to limit recipients under this program solicitation to U.S. colleges and universities and university-affiliated research institutions. Industry collaboration will be encouraged under this program, but only through cost-share and subcontracting arrangements. Subcontracting opportunities by for-profit organizations is limited to no more than 10% of DOE funding provided under the cooperative agreement. In addition, Federal agencies and agents (i.e. Management and Operating (M&O) contractors and/or National Laboratories) are prohibited from proposing as a prime contractor or subcontractor under this solicitation. Cost sharing is encouraged, but not required, under the subject program solicitation.

Once released, the solicitation will be available for downloading from the IIPS Internet page. At this Internet site you will also be able to register with IIPS, enabling you to submit an application. If you need technical assistance in registering or for any other IIPS function, call the IIPS Help Desk at (800) 683-0751 or E-mail the Help Desk personnel at IIPS_HelpDesk@e-center.doe.gov. The solicitation will only be made available in IIPS, no hard (paper) copies of the solicitation and related documents will be made available. Telephone requests, written requests, E-mail requests, or facsimile requests for a copy of the solicitation package will not be accepted and/or honored. Applications must be prepared and submitted in accordance with the instructions and forms contained in the solicitation. The actual solicitation document will allow for requests for explanation and/or interpretation. However, all questions relating to the solicitation must be submitted electronically through IIPS. All responses to questions, as well as all amendments to the solicitation, will be released on the IIPS homepage.

Issued in Pittsburgh, Pennsylvania on November 20, 2002.
Dale A. Siciliano,
Director, Acquisition and Assistance Division.

[FR Doc. 02-30409 Filed 11-29-02; 8:45 am]

BILLING CODE 6450-01-P